DEPARTMENT OF THE TREASURY

Internal Revenue Service

26 CFR Part 1

[TD 9815]

RIN 1545-BM33

Dividend Equivalents From Sources Within the United States; Correction

AGENCY: Internal Revenue Service (IRS), Treasury.

ACTION: Final regulations and temporary regulations; Correcting amendments.

SUMMARY: This document contains corrections to final and temporary regulations (TD TD 9815), which were published in the Federal Register on Tuesday, January 24, 2017.

DATES: Effective Date: These corrections are effective October 26, 2017.

Applicability Date: The corrections to §§ 1.1.871-15, 1.871-15T, 1.1441-1(e)(5)(v)(B)(4), (e)(6), and (f)(5), 1.1441-2, 1.1441-7, and 1.1461-1 are applicable on January 19, 2017.

FOR FURTHER INFORMATION CONTACT: D. Peter Merkel or Karen Walny at 202-317-6938 (not a toll-free number).

SUPPLEMENTARY INFORMATION:

Background

The final and temporary regulations that are the subject of these corrections are §§ 1.871-15, 1.871-15T, 1.1441-1, 1.1441-2, 1.1441-7, and 1.1461-1, promulgated under sections 871(m) and 7805 of the Internal Revenue Code. These regulations affect foreign persons that hold certain financial products providing for payments that are contingent upon or determined by reference to U.S. source dividends, as well withholding agents with respect to dividend equivalents and certain other parties to section 871(m) transactions and their agents.

Need for Correction

As published, TD 9815 contains errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

§ 1.871-15 [Amended]

Par. 2. Section 1.871-15 is amended by:

1. Removing paragraph (r)(2).

2. Redesignating paragraphs (r)(3), (4), and (5), as (r)(2), (3), and (4), respectively.

§ 1.871-15 [Amended]

Par. 3. For each section listed in the table, remove the language in the “Remove” column and add in its place the language in the “Add” column as set forth below:

Section | Remove | Add
§ 1.871-15(a)(14)(ii)(B) | ELI.More | ELI. More
§ 1.871-15(l)(1), second sentence | described in this paragraph (l) | described in this paragraph (l)(1)
§ 1.871-15(q)(1) | qualified intermediary agreement | qualified intermediary withholding agreement
§ 1.871-15(q)(4) | ordinary | ordinarily
§ 1.871-15(q)(5), Example (3), paragraph (ii) | country that provides withholding | country with a treaty that provides withholding
§ 1.871-15(q)(5), Example (3), paragraph (ii) | paid by qualified derivatives dealer | paid by the qualified derivatives dealer
§ 1.871-15(r)(1) | September 18, 2015 | January 19, 2017

§ 1.871-15T [Amended]

Par. 4. Section 1.871-15T is amended by redesignating paragraph (r)(5) as (r)(4).

§ 1.871-15T [Amended]

Par. 5. For each section listed in the table, remove the language in the “Remove” column and add in its place the language in the “Add” column as set forth below:

Section | Remove | Add
§ 1.871-15T(p)(5) | Example 1. | Example.
§ 1.871-15T(q) through (r)(4) [Reserved] | (q) through (r)(4) [Reserved]. For further guidance, see § 1.871-15(r)(1) through (4) | (q) through (r)(3) [Reserved]. For further guidance, see § 1.871-15(q) through (r)(3)
§ 1.871-15T(r)(4) newly redesignated | after on January | after January

§ 1.1441-1 [Amended]

Par. 6. For each section listed in the table, remove the language in the “Remove” column and add in its place the language in the “Add” column as set forth below:

Section | Remove | Add
§ 1.1441-1(e)(5)(v)(B)(4)(iv) | U.S. income tax | U.S. federal income tax
§ 1.1441-1(e)(6)(i)(B) | and other withholding provisions | and other provisions
§ 1.1441-1(e)(6)(i)(C) | underlying securities (including | underlying securities as defined in § 1.871- 15(a)(15) (including
§ 1.1441-1(e)(6)(i)(C) | received in the equity | received in its equity
§ 1.1441-1(e)(6)(i)(D)(3) | U.S. tax return | U.S. federal tax return
§ 1.1441-1(e)(6)(i)(F) | QDD | qualified derivatives dealer
§ 1.1441-1(e)(6)(ii)(B) introductory text | organized, or operates | organized or operates
§ 1.1441-1(e)(6)(ii)(B)(2) | pursuant to | with respect to
§ 1.1441-1(f)(5) | Paragraphs (e)(5)(ii)(D) | Paragraphs (e)(5)(ii)(C)

Par. 7. Section 1.1441-2 is amended by removing the last two sentences of paragraph (f)(1) and adding a sentence at the end of the paragraph to read as follows:

§ 1.1441-2 Amounts subject to withholding.

* * * * *

(f) * * *

(1) * * * Paragraph (e)(7) of this section applies on or after January 19, 2017.

* * * * *

§ 1.1441-2 [Amended]

Par. 8. For each section listed in the table, remove the language in the “Remove” column and add in its place the language in the “Add” column as set forth below:

Section | Remove | Add
§ 1.1441-2(e)(7)(ii)(A) | § 1.871-15(i)(3), | § 1.871-15(i)(3)(i),
§ 1.1441-2(e)(7)(iv) | type (securities | type (for example, securities
§ 1.1441-2(e)(7)(v) | the types of section 871(m) transaction | the type of section 871(m) transaction
§ 1.1441-2(e)(7)(v) | certifying that has notified | certifying that it has notified

§ 1.1441-7 [Amended]

Par. 9. Section 1.1441-7 is amended by removing the second sentence of paragraph (a)(4).

§ 1.1441-7 [Amended]

Par. 10. For each section listed in the table, remove the language in the “Remove” column and add in its place the language in the “Add” column as set forth below:

Section | Remove | Add
§ 1.1441-7(a)(3), Example 9 | not required withhold | not required to withhold
§ 1.1441-7(a)(4) | Example 8 and | Example 7, Example 8, and
§ 1.1441-7(a)(4) | apply to payments made on or after January 19 | apply beginning January 19

Par. 11. Section 1.1461-1 is amended by revising paragraph (c)(2)(iii) to read as follows:

§ 1.1461-1 Payment and returns of tax withheld.

* * * * *

(c) * * *

(2) * * *

(iii) Applicability date. Paragraph (c)(2) of this section applies beginning January 19, 2017.

* * * * *

Martin V. Franks,
Chief, Publications and Regulations Branch, Legal Processing Division, Associate Chief Counsel (Procedure and Administration).

[FR Doc. 2017-22830 Filed 10-25-17; 8:45 am]

BILLING CODE 4830-01-P